DEPARTMENT OF THE INTERIOR

Bureau of Indian Affairs

Proclaiming Certain Lands as Reservation for the Jicarilla Apache Nation of New Mexico

AGENCY: Bureau of Indian Affairs, Interior.

ACTION: Notice of Reservation Proclamation.

SUMMARY: This notice informs the public that approximately 4,137.00 acres, more or less, was proclaimed to be an addition to the Jicarilla Apache Nation Reservation, New Mexico.

FOR FURTHER INFORMATION CONTACT: Ben Burshia, Bureau of Indian Affairs, Division of Real Estate Services, MS-4639-MIB, 1849 C Street, NW., Washington, DC 20240, telephone (202) 208-7737.

SUPPLEMENTARY INFORMATION: This notice is published in the exercise of authority delegated by the Secretary of the Interior to the Assistant Secretary—Indian Affairs by part 209 of the Departmental Manual.

A proclamation was issued, according with Section 7 of the Act of June 18, 1934 (48 Stat. 986; 25 U.S.C. 467), for the land described below. The land was proclaimed to be the Jicarilla Apache Nation Reservation for the exclusive use of Indians on that reservation who are entitled to reside at the reservation by enrollment or tribal membership. Rio Arriba County, Mossman Tract, within the Tierra Amarilla Grant, New Mexico.

The tract of land officially designated as the Mossman Tract, containing 4,137.00 acres, more or less, being the northerly portion of a tract of land formerly known as the Linger Ranch or Stewart Ranch and more recently known as the Mossman-Gladden Tract, lying within the Tierra Amarilla Grant, Private Land Claim No. 3, as conveyed to Francisco Martinez on February 21, 1881, by the U.S. Congress in compliance with a Treaty of Peace Between the United States and Mexico ratified on February 2, 1848, and commonly known as the Treaty of Guadalupe Hidalgo, in Rio Arriba County, New Mexico, and being more particularly described as follows:

Unless otherwise noted, all of the following description is as shown on the plat titled “ALTA/ACSM Land Title Survey for Fred M. & Janie L. Mossman and Frederick Andrew Mossman, The North Half of the Mossman-Gladden Tract (Also Known as ‘The Old Linger Ranch’), A Portion of the Historic Rivera/Braiden Tract, Lying East of the Village of Chama, Within the Tierra Amarilla Grant, Rio Arriba County, New Mexico,” by William H. Albert, New Mexico Professional Surveyor No. 7241, filed in the Office of the County Clerk, Rio Arriba County, New Mexico, on July 9, 1998, in Plat Book P-980, page 5719, as Document No. 148881. Bearings are grid and based on the New Mexico State Plane Coordinate System, Central Zone, NAD 27.

Beginning at Mile Post 26 on the easterly boundary of the Tierra Amarilla Grant as surveyed by the U.S. Deputy Surveyors for the U.S. Surveyor General in July of 1876 and as resurveyed by the U.S. General Land Office in 1932, being a point on the westerly boundary of the Carson National Forest, which is also a point on the east boundary of the herein described Mossman Tract;

Thence along said easterly boundary of said Tierra Amarilla Grant and said westerly boundary of said Carson National Forest, along a portion of the east boundary of the Mossman Tract, in a southeasterly direction as follows:

S. 53°03′41″ E. a distance of 2,552.66 feet to a brass cap found at Mile Post 25½;

S. 53°07′42″ E. a distance of 2,550.81 feet to a brass cap found at Mile Post 25;

S. 53°00′43″ E. a distance of 2,224.76 feet to a ½″ rebar with PS 7241 cap found at the southeast corner of the Mossman Tract, whence Mile Post 24½ bears S. 52°58′16″ E. a distance of 323.80 feet;

Thence S. 77°25′42″ W. a distance of 21,974.20 feet along the south boundary of the Mossman Tract, which is also along the northerly boundary of the Swanson Tract as shown on the above-described 1998 Albert plat, to a ½″ rebar with PS 7241 cap found at the southwest corner of the Mossman Tract, a point on the meander line of the divide between the Brazos River and Canones Creek watersheds being the dividing line between the herein described Mossman Tract property and the property to the west held by the United States of America in trust for the Jicarilla Apache Nation and known as the Chama Ranch, and formerly owned by the Jicarilla Apache Tribe (now Nation) and by the Chama Land & Cattle Company;

Thence northwesterly following and meandering the divide, along the west boundary of the Mossman Tract, which is the boundary between the herein described tract and the said Jicarilla Apache Nation's Chama Ranch, as follows:

N. 70°27′25″ W. a distance of 239.47 feet to a found stone marked “VJ”;

N. 41°29′05″ W. a distance of 539.50 feet to a found ½″ rebar with PS 7241 cap;

N. 63°58′21″ W. a distance of 369.69 feet to a found ½″ rebar with PS 7241 cap;

N. 87°05′46″ W. a distance of 818.09 feet to a found ½″ rebar with PS 7241 cap;

N. 65°04′52″ W. a distance of 1,195.81 feet to a found 2½″ × 10′ fence post;

N. 07°43′38″ E. a distance of 1,704.80 feet to a point in a rock boil;

N. 05°37′06″ W. a distance of 1,823.47 feet to a set ½″ rebar with PS 7241 cap;

N. 13°51′44″ W. a distance of 983.46 feet to a set ½″ rebar with PS 7241 cap;

N. 47°25′43″ W. a distance of 1,043.01 feet to a set ½″ rebar with PS 7241 cap;

N. 16°34′39″ W. a distance of 757.48 feet to a point in a rock boil;

N. 03°53′23″ W. a distance of 2,405.07 feet to a point;

N. 27°24′14″ W. a distance of 598.42 feet to a ¾″ iron pipe marked “VJ 36” found at the northwest corner of the Mossman Tract, a point common to said Jicarilla Apache Nation's Chama Ranch property, the BLOK Corporation Tract, and the herein described tract, from which point New Mexico State Engineer's Office (N.M.S.E.O.) brass cap control station “CABLE” bears S. 86°28′29″ W., a distance of 43,990.84 feet (at mean elevation of 7,772 feet) (Note: Control station “CABLE” has New Mexico State Plane Coordinate System Central Zone (NAD27), U.S. survey feet coordinates of y = 2,142,009.14 and x = 400,596.13 (these coordinates were obtained directly from the State Engineer's Office in Santa Fe—the above-described 1998 Albert plat erroneously lists the x coordinate as 400,496.13); the combined grid to ground factor used in the above-described 1998 Albert survey is 1.0004620520 and was computed at N.M.S.E.O. “CABLE” using the mean elevation of 7,772 feet.);

Thence N. 88°53′20″ E. a distance of 4789.67 feet along a portion of the north boundary of the Mossman Tract, which is also along the southerly boundary of the said BLOK Corporation Tract, to a ½″ rebar with PS 7241 cap set at the point common to the said BLOK Corporation Tract, the Rivera Tract, and the herein described Mossman Tract, as shown on the above-described 1998 Albert plat.

Thence N. 88°53′20″ E. a distance of 14,711.56 feet along a portion of the north boundary of the Mossman Tract, which is also along the southerly boundary of the said Rivera Tract, the Cohn Tract, and the Salazar Tract as shown on the above-described 1998 Albert plat, to a ½″ rebar with PS 7241 cap set at the fence corner for the northeast corner of the Mossman Tract, being a point on said easterly boundary of said Tierra Amarilla Grant and said westerly boundary of said Carson National Forest, whence Mile Post 26½ bears N. 23°11′38″ W. a distance of 1302.86 feet;

Thence S. 23°11′38″ E. a distance of 1,311.00 feet along said easterly boundary of said Tierra Amarilla Grant and said westerly boundary of said Carson National Forest, along a portion of the east boundary of the Mossman Tract, to Mile Post 26 and the point and place of beginning.

The above-described lands contain a total of 4,137.00 acres, more or less, which are subject to all valid rights, reservations, rights-of-way, and easements of record.

This proclamation does not affect title to the land described above, nor does it affect any valid existing easements for public roads and highways, public utilities and for railroads and pipelines and any other rights-of-way or reservations of record.

Dated: July 16, 2008.
George T. Skibine,
Acting Deputy Assistant Secretary for Policy and Economic Development.

[FR Doc. E8-17233 Filed 7-25-08; 8:45 am]

BILLING CODE 4310-W7-P